FEDERAL COMMUNICATIONS COMMISSION

47 CFR Part 73

[DA 03-234]

Review of the Commission's Broadcast Ownership Rules and Other Rules Adopted Pursuant to Section 202 of the Telecommunications Act of 1996

AGENCY: Federal Communications Commission.

ACTION: Notice of en banc field hearing on broadcast ownership rules.

SUMMARY: On Thursday, February 27, 2003 from 10 a.m. to 4 p.m., the Federal Communications Commission (FCC) will hold an en banc field hearing on broadcast ownership rules at the Greater Richmond Convention Center, 403 N. Third Street, Richmond, VA 23219.

DATES: The hearing will be held on Thursday, February 27, 2003, 10 a.m. to 4 p.m.

ADDRESSES: Location of hearing: The Greater Richmond Convention Center, 403 N. Fifth St. Richmond, VA 23219. Interested members of the public also may participate in this proceeding by filing comments electronically using the Commission's Electronic Comment Filing System (ECFS) and ECFS Express at http://www.fcc.gov.

FOR FURTHER INFORMATION CONTACT: Amelia Brown, Consumer & Governmental Affairs Bureau, (202) 418-1400. Press inquiries should be directed to Rosemary Kimball, (202) 418-0511.

SUPPLEMENTARY INFORMATION: The hearing discussions will focus on diversity, competition and localism. (See MB Docket No. 02-277.) Attendance at this field hearing is open to the public. Seating will be available on a first-come, first-served basis. Requests for reasonable accommodations for people with disabilities should be made by sending an e-mail to: fcc504@fcc.gov. Include a description of the accommodation you will need including as much detail as you can. Also include a way we can contact you if we need more information. Make your request as early as possible; please allow at least 5 days advance notice. Last minute requests will be accepted, but may be impossible to fill. Contact the following Consumer & Governmental Affairs Bureau staff: for sign language interpreters, CART, and other reasonable accommodations, contact Helen Chang, 202-418-0424 (voice), 202-418-0432 (TTY), hchang@fcc.gov; for accessible format materials (braille, large print, electronic files, and audio format) contact Brian Millin, 202-418-7426 (voice), 202-418-7365 (TTY), bmillin@fcc.gov. Interested members of the public may also participate in this proceeding by filing comments electronically using the Commission's Electronic Comment Filing System (ECFS) and ECFS Express at http://www.fcc.gov.

Federal Communications Commission.
Kris A. Monteith,
Deputy Bureau Chief, Consumer & Governmental Affairs Bureau.

[FR Doc. 03-4264 Filed 2-20-03; 8:45 am]

BILLING CODE 6712-01-P